DEPARTMENT OF HEALTH AND HUMAN SERVICES

Food and Drug Administration

[Docket No. 2005C-0482]

Food Ingredient Solutions, LLC; Filing of Color Additive Petition

AGENCY: Food and Drug Administration, HHS.

ACTION: Notice.

SUMMARY: The Food and Drug Administration (FDA) is announcing that Food Ingredient Solutions, LLC, has filed a petition proposing that the color additive regulations be amended to expand the use of sodium copper chlorophyllin to include foods generally (with the exception of meat, poultry, fish, and standardized foods) and to include fescue grass as a permitted source.

FOR FURTHER INFORMATION CONTACT: Mical E. Honigfort, Center for Food Safety and Applied Nutrition (HFS-265), Food and Drug Administration, 5100 Paint Branch Pkwy., College Park, MD 20740-3835, 301-436-1278.

SUPPLEMENTARY INFORMATION: Under the Federal Food, Drug, and Cosmetic Act (section 721(d)(1) (21 U.S.C. 379e(d)(1))), notice is given that a color additive petition (CAP 6C0281) has been filed by Food Ingredient Solutions, LLC, 300 Corporate Dr., suite 7, Blauvelt, NY 10913. The petition proposes to amend the color additive regulations in § 73.125 Sodium copper chlorophyllin (21 CFR 73.125) to expand the use to include foods generally (with the exception of meat, poultry, fish, and standardized foods) and to include fescue grass as a permitted source.

The agency has determined under 21 CFR 25.32(k) that this action is of a type that does not individually or cumulatively have a significant effect on the human environment. Therefore, neither an environmental assessment nor an environmental impact statement is required.

Dated: November 17, 2005.
Laura M. Tarantino,
Director, Office of Food Additive Safety, Center for Food Safety and Applied Nutrition.

[FR Doc. 05-23812 Filed 12-8-05; 8:45 am]

BILLING CODE 4160-01-S